OFFICE OF PERSONNEL MANAGEMENT

Proposed Collection; Comment Request for Clearance of a Revised Information Collection: Declaration for Federal Employment; Optional Form 306, OMB No. 3206-0182

AGENCY: Office of Personnel Management.

ACTION: Notice.

SUMMARY: In accordance with the Paperwork Reduction Act of 1995 (Public Law 104-13, May 22, 1995), this notice announces that the Office of Personnel Management (OPM) intends to submit a request to the Office of Management and Budget (OMB) for review of a revised information collection. The Optional Form (OF) 306, Declaration for Federal Employment, is completed by applicants who are under consideration for Federal or Federal contract employment.

The OF 306 requests that the applicant provide personal identifying data, including, for example, general background information, information concerning retirement pay received or requested and information on Selective Service registration and military service. The revision is to make needed administrative updates.

It is estimated that 474,000 individuals will respond annually. Each form takes approximately 15 minutes to complete. The annual estimated burden is 118,500 hours.

Comments are particularly invited on:

• Whether this collection of information is necessary for the proper performance of functions of OPM and its Center for Federal Investigative Services, which administers background investigations;

• Whether our estimate of the public burden of this collection is accurate and based on valid assumptions and methodology;

• Ways in which we can minimize the burden of the collection of information on those who are to respond, through use of the appropriate technological collection techniques or other forms of information technology;

• Ways in which we can enhance the quality, utility and clarity of the information to be collected.

For copies of this proposal, contact Mary Beth Smith-Toomey, OPM Forms Officer, at (202) 606-8358, FAX (202) 418-3251 or mbtoomey@opm.gov. Please include your mailing address with your request.

DATES: Comments on this proposal should be received within 60 calendar days from the date of this publication.

ADDRESSES: Send or deliver comments to: Kathy Dillaman, Deputy Associate Director, Center for Federal Investigative Services, U.S. Office of Personnel Management, 1900 E Street, NW., Room 5416, Washington, DC 20415.

For information regarding administrative coordination contact: Mary-Kay Brewer—Program Analyst, Standards and Evaluation Group, Center for Federal Investigative Services, U.S. Office of Personnel Management, (202) 606-1042.

U.S. Office of Personnel Management.
Linda M. Springer,
Director.

[FR Doc. 05-18140 Filed 9-12-05; 8:45 am]

BILLING CODE 6325-38-P